NUCLEAR REGULATORY COMMISSION

[Docket 72-2]

Virginia Electric and Power Company; Issuance of Environmental Assessment and Finding of No Significant Impact Regarding the Proposed Amendment To Revise Technical Specifications of License No. SNM-2501

The U.S. Nuclear Regulatory Commission (NRC or Commission) is considering issuance of an amendment, pursuant to 10 CFR 72.56, to the Special Nuclear Materials License No. 2501 (SNM-2501) held by Virginia Electric and Power Company (Virginia Power) for the Surry independent spent fuel storage installation (ISFSI). The requested amendment would revise the Technical Specifications of SNM-2501 to specifically permit the continued storage of burnable poison rod assemblies (BPRA) and thimble plug devices (TPD) within the CASTOR V/21, NAC I28, and Westinghouse MC-10 casks used at the Surry ISFSI.

Environmental Assessment (EA)

Identification of Proposed Action: By letter dated April 5, 1999, as supplemented on February 29, 2000, Virginia Power requested an amendment to revise the Technical Specifications of SNM-2501 for the Surry ISFSI. The changes would specifically permit the continued storage of BPRAs and/or TPDs within the CASTOR V/21, NAC I28, and Westinghouse MC-10 dry storage casks used at the Surry ISFSI.

Need for the Proposed Action: The proposed action will eliminate the need to physically remove BPRAs and TPDs from irradiated fuel assemblies in order for dry cask storage to continue under the present technical specifications of the license.

Environmental Impacts of the Proposed Action: The NRC has completed its evaluation of the proposed action and concludes that granting the request for an amendment to specifically allow the continued storage of BPRAs and TPDs within the CASTOR V/21, NAC I28, and Westinghouse MC-10 casks used at the Surry ISFSI will not increase the probability or consequences of accidents. No changes are being made in the types of any effluents that may be released off site. With regard to radiological impacts, the addition of irradiated BPRAs and TPDs only affects the gamma source term of the cask. For this amendment, Virginia Power's calculated increase in surface dose rate resulting from the added BPRAs and TPDs remains within the bounds of the currently approved dose rate limit and, consequently, results in no significant increase in occupational or public radiation exposure. Additionally, the applicant made physical dose rate measurements of casks currently loaded with BPRAs and TPDs, and they are less than the calculated dose rates. The measured increase in the surface dose rate remains within the bounds of the currently approved dose rate limit. Therefore, there are no significant radiological environmental impacts associated with the proposed action.

The amendment only affects the requirements associated with the content of the casks and does not affect non-radiological plant effluents or any other aspects of the environment. Therefore, there are no significant non-radiological environmental impacts associated with the proposed action.

Accordingly, the Commission concludes that there are no significant environmental impacts associated with the proposed action.

Alternative to the Proposed Action: The alternative to the proposed action would be to deny the request for an amendment (i.e., the “no-action” alternative). Denial of the proposed action would result in the need to physically remove BPRAs and TPDs from each fuel assembly possessing them prior to continuing dry cask storage. Physical removal of irradiated BPRAs and TPDs would increase the exposure time and dose to the plant workers. In addition, it would require disposal or storage of additional radioactive material (i.e., BPRAs and TPDs) that would otherwise be safely stored if the BPRAs and TPDs are left intact with their irradiated fuel assembly. The environmental impacts of the alternative action are greater than the proposed action.

Given that there are greater environmental impacts associated with the alternative action of denying the approval for an amendment, the Commission concludes that the preferred alternative is to grant this amendment.

Agencies and Persons Consulted: On September 27, 1999, Mr. Les Foldese of the Virginia Department of Health, Bureau of Radiological Health, was contacted in regard to the proposed action and had no concerns.

Finding of No Significant Impact

The environmental impacts of the proposed action have been reviewed in accordance with the requirements set forth in 10 CFR part 51. Based upon the foregoing Environmental Assessment, the Commission finds that the proposed action of granting an amendment to permit the continued storage of BPRAs and TPDs within the CASTOR V/21, NAC I28, and Westinghouse MC-10 casks used at the Surry ISFSI will not significantly impact the quality of the human environment. Accordingly, the Commission has determined not to prepare an environmental impact statement for the proposed exemption.

For further details with respect to this action, see the amendment application dated April 5, 1999, as supplemented on February 29, 2000. In accordance with 10 CFR 2.790 of the NRC's “Rules of Practice,” a copy of this letter and its enclosure will be available electronically for public inspection in the NRC Public Document Room or from the Publicly Available Records (PARS) component of NRC's document system (ADAMS). ADAMS is accessible from the NRC Web site at http://www.nrc.gov/NRC/ADAMS/index.html (the Public Electronic Reading Room).

Dated at Rockville, Maryland, this 26th day of June 2000.
For the Nuclear Regulatory Commission.
E. William Brach,
Director, Spent Fuel Project Office, Office of Nuclear Material Safety and Safeguards.

[FR Doc. 00-16730 Filed 6-30-00; 8:45 am]

BILLING CODE 7890-01-P